DEPARTMENT OF THE INTERIOR

Bureau of Indian Affairs

[189A2100DD/AAKC001030/A0A501010.999900 253G; OMB Control Number 1076-0131]

Agency Information Collection Activities; Indian Child Welfare Quarterly and Annual Report

AGENCY: Bureau of Indian Affairs, Interior.

ACTION: Notice of information collection; request for comment.

SUMMARY: In accordance with the Paperwork Reduction Act of 1995, the Bureau of Indian Affairs (BIA) is proposing to renew an information collection.

DATES: Interested persons are invited to submit comments on or before January 2, 2018.

ADDRESSES: Send your comments on the information collection request (ICR) by mail to Ms. Evangeline Campbell, Chief, Division of Human Services, Office of Indian Services, Bureau of Indian Affairs, 1849 C Street NW., MS-4513-MIB, Washington, DC 20240; facsimile: (202) 208-5113; email: Evangeline.Campbell@bia.gov. Please reference OMB Control Number 1076-0131 in the subject line of your comments.

FOR FURTHER INFORMATION CONTACT: To request additional information about this ICR, contact Ms. Evangeline Campbell, (202) 513-7621.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The BIA is seeking to renew the information collection conducted under 25 CFR 23, related to the Indian Child Welfare Act (ICWA). BIA collects information using a consolidated caseload form, which tribal ICWA program directors fill out. BIA uses the information to determine the extent of service needs in local Indian communities, assess ICWA program effectiveness, and provide date for the annual program budget justification. The aggregated report is not considered confidential.

This form must completed by tribes that operate child protection programs. Submission of this information by Indian tribes allows BIA to consolidate and review selected data on Indian child welfare cases. The data is useful on a local level, to the tribes and tribal entities that collect it, for case management purposes. The data are useful on a nationwide basis for planning and budget purposes.

Title of Collection: Indian Child Welfare Quarterly and Annual Report.

OMB Control Number: 1076-0131.

Form Number: N/A.

Type of Review: Extension without change of currently approved collection.

Respondents/Affected Public: Indian tribes or tribal entities that are operating programs for Indian tribes.

Total Estimated Number of Annual Respondents: Approximately 536 per year, on average, for part A—ICWA Data; approximately 200 per year, on average, for part B—Tribal Child Abuse Neglect Data.

Total Estimated Number of Annual Responses: Approximately 2,144 per year, on average, for part A—ICWA Data; approximately 800 per year, on average, for part B—Tribal Child Abuse Neglect Data.

Estimated Completion Time per Response: Approximately 15 minutes for part A—ICWA Data; approximately 15 minutes for part B—Tribal Child Abuse and Neglect Data.

Total Estimated Number of Annual Burden Hours: 736 hours, on average.

Respondent's Obligation: A response is required to obtain a benefit.

Frequency of Collection: Four times per year for the part A—ICWA Data; if applicable, four times per year for part B—Tribal Child Abuse Neglect Data.

Total Estimated Annual Nonhour Burden Cost: $0.

An agency may not conduct or sponsor and a person is not required to respond to a collection of information unless it displays a currently valid OMB control number.

The authority for this action is the Paperwork Reduction Act of 1995 (44 U.S.C. 3501 et seq.)

Elizabeth K. Appel,
Director, Office of Regulatory Affairs and Collaborative Action, Indian Affairs.

[FR Doc. 2017-23834 Filed 11-1-17; 8:45 am]

BILLING CODE 4337-15-P